DEPARTMENT OF VETERANS AFFAIRS

Special Medical Advisory Group, Notice of Meeting

The Department of Veterans Affairs (VA) gives notice under the Federal Advisory Committee Act, 5 U.S.C. ch. 10, that the Special Medical Advisory Group (the Committee) will meet on September 25-26, 2024, at the Palo Alto VA Medical Center (Celebration Room), 3801 Miranda Avenue, in Palo Alto, CA. The September meeting sessions will begin and end as follows:

Date | Time | Open session
September 25, 2024 | 8:30 a.m.-4:00 p.m. Pacific Time (PT) | Yes.
September 26, 2024 | 8:00 a.m.-9:30 a.m. PT | Yes.

Members of the Committee may join in person or virtually. The meeting is open to the public. The public is encouraged to attend virtually due to seating limitations in the physical meeting space.

The meeting can be joined by phone at 404-397-1596 (Access code: 28225920144) and via Webex at: https://veteransaffairs.webex.com/wbxmjs/joinservice/sites/veteransaffairs/meeting/download/3777e040e97e4d9fbf178572395a9611?siteurl=veteransaffairs&MTID=mbfe409f4d3327b0560086f2af98f0825. Please contact the point of contact below for assistance connecting.

The purpose of the Committee is to advise the Secretary of Veterans Affairs and the Under Secretary for Health on the care and treatment of Veterans, and other matters pertinent to the Veterans Health Administration.

On September 25-26, 2024, the agenda for the meeting will include discussions on strategies for increasing access, community care program, challenges to growth, digital health overview, tele-urgent and emergent care, artificial intelligence, efforts to reduce administrative burdens for providers, nursing infrastructure, electronic health record management deployment and behavioral and mental health care, and strategy for long-COVID management.

Members of the public may submit written statements in advance for review by the Committee to: Department of Veterans Affairs, Special Medical Advisory Group—Office of Under Secretary for Health (10), Veterans Health Administration, 810 Vermont Ave. NW, Washington, DC 20420 or by email at: VASMAGDFO@va.gov. Comments will be accepted until close of business on Thursday, September 19, 2024. The meeting will also include time reserved for live public comment at the end of the meeting on September 26, 2024. The public comment period will be 30 minutes and each individual commenter will be afforded a maximum of five minutes to express their comments.

Any member of the public wishing to attend the meeting or seeking additional information should email VASMAGDFO@va.gov or call 202-461-7000.

Dated: August 21, 2024.
LaTonya L. Small,
Federal Advisory Committee Management Officer.

[FR Doc. 2024-19160 Filed 8-26-24; 8:45 am]

BILLING CODE P